DEPARTMENT OF ENERGY

Federal Energy Regulatory Commission

[Docket No. IC01-561-001 FERC Form 561]

Information Collection Submitted for Review and Request for Comments

November 29, 2001.

AGENCY: Federal Energy Regulatory Commission, DOE.

ACTION: Notice of submission for review by the Office of Management and Budget (OMB) and request for comments.

SUMMARY: The Federal Energy Regulatory Commission (Commission) has submitted the energy information collection listed in this notice to the Office of Management and Budget (OMB) for review under provisions of Section 3507 of the Paperwork Reduction Act of 1995 (Pub. L. No. 104-13). Any interested person may file comments on the collection of information directly with OMB and should address a copy of those comments to the Commission as explained below. The Commission received no comments in response to an earlier Federal Register notice of May 8, 2001 (66 FR. 23240). The Commission has noted this fact in its submission to OMB.

DATES: Comments regarding this collection of information are best assured of having their full effect if received on or before January 4, 2002.

ADDRESSES: Address comments to Office of Management and Budget, Office of Information and Regulatory Affairs, Attention: Federal Energy Regulatory Commission, Desk Officer, 725 17th Street, NW., Washington, DC 20503. A copy of the comments should also be sent to Federal Energy Regulatory Commission, Office of the Chief Information Officer, Attention: Mr. Michael Miller, 888 First Street NE., Washington, DC 20426.

FOR FURTHER INFORMATION CONTACT: Michael Miller may be reached by telephone at (202)208-1415, by fax at (202)273-0873, and by e-mail: mike.miller@fer.fed.us.

SUPPLEMENTARY INFORMATION:

Description

The energy information collection submitted to OMB for review contains:

1. Collection of Information: FERC Form 561 “Annual Report of Interlocking Positions”.

2. Sponsor: Federal Energy Regulatory Commission.

3. Control No.: OMB No. 1902-0099. The Commission is now requesting that OMB approve a three-year extension of the current expiration date, with no changes to the existing collection. This is a mandatory information collection requirement.

4. Necessity of Collection of Information: Submission of the information is necessary to fulfill the requirements of Section 305 of the Federal Power Act (FPA), as amended by Title II, Section 211 of the Public Utility Regulatory Policies Act of 1978 (PURPA). Submission of FERC Form 561 satisfies the FPA section 305(b) and (c) annual reporting requirements for public utility officers and directors to report officer and director positions they hold with financial institutions, insurance companies, utility equipment providers, utility fuel providers, and a utility's top twenty customers of electric energy. FPA Section 305(c)(3)(A) defines the public utilities who are required to file. FPA section 305(c)(2) requires that the filed information be made available to the public. FPA Section 305(c)(1) requires an annual filing deadline of April 30th. The necessary filing information, the required filers, the requirement to make the information available to the public and the filing deadline are all mandated by the FPA. The Commission is not empowered to amend or waive these statutory requirements. Requirements the Commission has the authority to amend, such as format of the filing itself and the number of required copies are found at 18 46.1 and 131.31.

The Commission has used the information filed in FERC Form 561 for the identification of: (1) Possible interlocking positions where the relationship is employed for the director's own benefit or profit, or for the benefit or profit of any other person or persons and to the detriment of the utility's, or the public interest; (2) the possible existence of control over a large number and geographically widespread public utilities by a small group of individuals; (3) the lack of arm's length dealings between public utilities and organizations furnishing financial services to consumers; and (4) the evasion by means of common control of competition resulting in higher costs and poorer services to consumers.

6. Estimated Burden: 400 total burden hours, 1,600 respondents, 1 response annually, .25 hours per response (average).

7. Estimated Cost Burden to Respondents: 400 hours ÷ 2,080 hours per year × $117,041 per year = $22,507, average cost per respondent = $14.

Statutory Authority: Sections 211 of the Public Utility Regulatory Policies Act of 1978 (PURPA) (16 U.S.C. 825d as amended and 16 U.S.C. 2601) and Section 305 of the Federal Power Act (16 U.S.C. 825d).

David P. Boergers,
Secretary.

[FR Doc. 01-30117 Filed 12-4-01; 8:45 am]

BILLING CODE 6717-01-P